Title 3—

The President

Memorandum of February 14, 2011

Delegation of Reporting and Other Authorities

Memorandum for the Secretary of Agriculture

By the authority vested in me as President by the Constitution and the laws of the United States, including section 301 of title 3, United States Code, I hereby delegate to you the functions and authority conferred upon the President by section 7 of the Soil and Water Resources Conservation Act of 1977 (16 U.S.C. 2006), as amended by section 2804 of the Food, Conservation, and Energy Act of 2008, to make the specified reports to the Congress.

You are authorized and directed to publish this memorandum in the Federal Register.

THE WHITE HOUSE,

Washington, February 14, 2011

[FR Doc. 2011-3818

Filed 2-16-11; 11:15 am]

Billing code 3410-10-P